DEPARTMENT OF THE TREASURY

Coronavirus Relief Fund; Notice of Availability

AGENCY: Department of the Treasury.

ACTION: Notification.

SUMMARY: This notification announces that the U.S. Department of the Treasury (Treasury) has revised its guidance regarding the Coronavirus Relief Fund (CRF) for States, Tribal governments, and certain eligible local governments and made this revision available on its website, https://home.treasury.gov/policy-issues/coronavirus/assistance-for-state-local-and-tribal-governments/coronavirus-relief-fund.

FOR FURTHER INFORMATION CONTACT: Katharine Richards, Senior Advisor, Office of Recovery Programs, Department of the Treasury, (844) 529-9527.

SUPPLEMENTARY INFORMATION: Treasury has revised its previously issued CRF guidance regarding the requirement in the CARES Act that payments from the CRF may only be used to cover costs that were incurred during the period that begins on March 1, 2020, and ends on December 31, 2021.

Dated: December 17, 2021.
Jacob Leibenluft,
Chief Recovery Officer, Office of Recovery Programs, U.S. Department of the Treasury.

[FR Doc. 2021-28267 Filed 12-28-21; 8:45 am]

BILLING CODE 4810-AK-P